SECURITIES AND EXCHANGE COMMISSION

[Release No. 34-44061A; File No. SR-Phlx-01-16]

Self-Regulatory Organizations; Notice of Filing and Order Granting Accelerated Approval of Proposed Rule Change by the Philadelphia Stock Exchange, Inc. Relating to Providing Compensation to Hearing Panelist

March 14, 2001.

Correction

In Release No. 34-44061, issued on March 9, 2001, the title described the filing incorrectly. The title is corrected to read as set forth above.

For the Commission, by the Division of Market Regulation, pursuant to delegated authority.¹
¹ 17 CFR 200.30-3(a)(12).
Margaret H. McFarland,
Deputy Secretary.

[FR Doc. 01-6802 Filed 3-19-01; 8:45 am]

BILLING CODE 6717-01-M